DEPARTMENT OF DEFENSE

Office of the Secretary

Defense Innovation Board; Notice of Federal Advisory Committee Meeting

AGENCY: Office of the Under Secretary of Defense for Research and Engineering, Department of Defense (DoD).

ACTION: Meeting of Federal Advisory Committee.

SUMMARY: The DoD is publishing this notice to announce that the following Federal Advisory Committee meeting of the Defense Innovation Board (DIB) will take place.

DATES: Open to the public July 18, 2023, from 2:00 p.m. to 3:15 p.m. Closed to the public July 18, 2023, from 8:45 a.m. to 1:00 p.m. and 3:30 p.m. to 5:45 p.m.

ADDRESSES: The Open Meeting of the DIB will take place virtually; the Closed Meeting of the DIB will be held in the Pentagon.

FOR FURTHER INFORMATION CONTACT: Ms. Colleen Laughlin, the Designated Federal Officer (DFO) at (571)-372-7344 (voice) or osd.innovation@mail.mil. Mailing address is Defense Innovation Board, 4800 Mark Center Drive, Suite 16F09-02, Alexandria, VA 22350-3600. Website: https://innovation.defense.gov. The most up-to-date changes to the meeting agenda and link to the virtual meeting can be found on the website.

SUPPLEMENTARY INFORMATION: This meeting is being held under the provisions of chapter 10 of title 5 United States Code (U.S.C.) (commonly known as the Federal Advisory Committee Act” or “FACA”, 5 U.S.C. 552b (commonly known as the “Government in the Sunshine Act”), and 41 Code of Federal Regulations (CFR) 102-3.140 and 102-3.150.

Due to circumstances beyond the control of the Designated Federal Officer and the Department of Defense, the Defense Innovation Board was unable to provide public notification required by 41 CFR 102-3.150(a) concerning its July 18, 2023 meeting. Accordingly, the Advisory Committee Management Officer for the Department of Defense, pursuant to 41 CFR 102-3.150(b), waives the 15-calendar day notification requirement.

Purpose of Meeting: The mission of the DIB is to provide the Secretary of Defense, the Deputy Secretary of Defense, and the Under Secretary of Defense for Research and Engineering (USD(R&E)) independent advice and strategic insights on emerging and disruptive technologies and their impact on national security, adoption of commercial sector innovation best practices, and ways to leverage the U.S. innovation ecosystem to align structures, processes, and human capital practices to accelerate and scale innovation adoption, foster a culture of innovation and an experimentation mindset, and enable the DoD to build enduring advantages. The DIB focuses on innovation-related issues and topics raised by the Secretary of Defense, the Deputy Secretary of Defense, or the USD(R&E). The objective of this DIB meeting is to obtain, review, and evaluate information related to the DIB's mission and studies.

Agenda: The DIB open meeting will take place on July 18, 2023, from 2:00 p.m. to 3:15 p.m. The DFO, Ms. Colleen Laughlin, will open the meeting and introduce the DIB Chair, Michael Bloomberg, for his welcome and opening remarks. The Task Force chairs will present their findings and recommendations to the DIB for its deliberation and vote on the studies. The DFO will then preview new study topics-related to lowering barriers to innovation and approaches data architectures-followed by a review of public comments. The open meeting will conclude with closing remarks by the DIB Chair and adjournment of the open portion of the meeting by the DFO.

The DIB closed meeting will take place July 18, 2023, from 8:45 a.m. to 1:00 p.m. and from 3:30 p.m. to 5:45 p.m. During this time, the DIB will meet with senior DoD leaders to receive classified briefs on the following: Defense Innovation Unit (Doug Beck, Director Defense Innovation Unit), Generative AI and Large Language Models (Dr. Craig Martell, Chief Data and AI Officer; Dr. Peter Highnam, Chief Strategy Officer, Office of the Secretary of Defense for Research & Engineering; Dr. Kim Sablon, Principal Director for Trusted AI and Autonomy, Office of the Secretary of Defense for Research & Engineering), Service Perspective on Innovation: Accelerate Change or Lose (General Charles Q. Brown, Chief of Staff of the Air Force), Defense Innovation Update (Secretary of Defense Lloyd Austin), and Security Clearance Enterprise (William Lietzau, Director Defense Counterintelligence Security Agency).

Meeting Accessibility: In accordance with section 1009(d) of the FACA and 41 CFR 102-3.155, the DoD has determined that parts of the DIB meeting will be closed to the public on July 18, 2023, from 8:45 a.m. to 1:00 p.m. and from 3:30 p.m. to 5:45 p.m. Specifically, the USD(R&E), as the DIB Sponsor, in consultation with the DoD Office of General Counsel, has determined in writing that these portions of the meeting will be closed to the public because the DIB will consider matters covered by 5 U.S.C. 552b(c)(1). The determination is based on the classified nature of discussions related to national security. Such classified material is so intertwined with the unclassified material that it cannot reasonably be segregated into separate discussions without defeating the effectiveness and meaning of the overall meeting.

Pursuant to Federal statutes and regulations (the FACA and 41 CFR 102-3.140 and 102-3.150), the open meeting will be accessible to the public virtually from July 18, 2023, from 2:00 p.m. to 3:15 p.m. Members of the public wishing to attend the meeting virtually will be able to access a link published on the DIB website the morning of the meeting. Members of the media should RSVP to the Office of the Assistant to the Secretary of Defense (Public Affairs), at osd.pentagon.pa.list.dpo-atl@mail.mil.

Written Statements: Pursuant to 41 CFR 102-3.105(j) and 102-3.140 and section 1009(a)(3) of the FACA, the public or interested organizations may submit written comments or statements to the DIB in response to the stated agenda of the meeting or regarding the DIB's mission in general. Written comments or statements should be submitted to Ms. Colleen Laughlin, the DFO, via email to osd.innovation@mail.mil. Comments or statements must include the author's name, title or affiliation, address, and daytime phone number. The DFO must receive written comments or statements being submitted in response to the agenda set forth in this notice by 12:00 p.m. on July 17, 2023, to be considered by the DIB. The DFO will review all timely submitted written comments or statements with the DIB Chair and ensure the comments are provided to all members before the meeting. Written comments or statements received after this date may not be provided to the DIB until its next scheduled meeting. Please note that all submitted comments and statements will be treated as public documents and will be made available for public inspection, including, but not limited to, being posted on the DIB's website.

Dated: July 18, 2023.
Aaron T. Siegel,
Alternate OSD Federal Register Liaison Officer, Department of Defense.

[FR Doc. 2023-15542 Filed 7-20-23; 8:45 am]

BILLING CODE 5001-06-P